DEPARTMENT OF HEALTH AND HUMAN SERVICES

National Institutes of Health

Final Draft National Institute of Environmental Health Sciences FY2025-FY2029 Strategic Plan

AGENCY: National Institutes of Health, HHS.

ACTION: Request for comments.

SUMMARY: The goal of the National Institute of Environmental Health Sciences (NIEHS) strategic planning process is to set scientific areas of emphasis and priority approaches to anticipate and meet areas of opportunity for furthering environmental health sciences research, training, and translation. NIEHS makes available the final draft of the FY2025-FY2029 NIEHS Strategic Plan.

DATES: Comments must be received by 11:59:59 p.m. (ET) on July 21, 2024, to ensure consideration.

ADDRESSES: Comments should be submitted by email to ehs-strategic-plan@niehs.nih.gov.

FOR FURTHER INFORMATION CONTACT: Dr. Nicole J. Garbarini, Office of Scientific Coordination, Planning, and Evaluation, email: ehs-strategic-plan@niehs.nih.gov or call non-toll-free number 301-435-4642.

SUPPLEMENTARY INFORMATION: This Federal Register notice is in accordance with the 21st Century Cures Act, requiring NIH and its Institutes and Centers to regularly update their strategic plans. NIEHS is one of the 27 institutes and centers that makes up the National Institute of Health, and conducts and supports research on factors in the environment that affect human health.

The mission of the NIEHS is to discover how the environment affects people, in order to promote healthier lives. The vision of the NIEHS is to provide global leadership for innovative research that improves public health by preventing disease and disability. NIEHS research covers all organ systems, diseases, and conditions that could be caused or affected by environmental impacts, which are defined broadly. The NIEHS achieves its mission and vision through multidisciplinary biomedical research programs, as well as prevention and intervention efforts. NIEHS research is disseminated to inform evidence-based environmental health policies to prevent disease and protect health. The NIEHS also focuses on communication and research translation strategies that encompass training, education, technology transfer, and community engagement.

During January 31-April 20, 2023, NIEHS solicited input to its strategic planning process through public comments on its 2018-2023 Strategic Plan and its associated goals, as well as any other aspect of environmental health sciences. Approximately 169 unique responses, both individual and group, were received in response to this RFI. In April 2023, NIEHS hosted a virtual community workshop including more than 100 invited participants from across diverse sectors to provide input through presentation and discussion of their ideas for priorities of the strategic plan. Reports and recommendations on key topics were generated as output of this workshop. Comment on strategic priorities in environmental health sciences was also solicited through discussion with the the National Advisory Environmental Health Sciences Council and the Board of Scientific Counselors. . Following compilation, curation, and analysis of all input, results of this curation were presented to NIEHS Senior Leadership to inform discussions and development of the plan, including Research Areas of Emphasis. and, and priority approaches for achieving the plan's translational goals.The NIEHS seeks comments from all interested parties on its final draft “FY2025-FY2028 NIEHS Strategic Plan: Health at the Intersection of People and Their Environments.”

The final draft plan may be viewed online at https://www.niehs.nih.gov/about/strategicplan/finaldraft.

Dated: June 20, 2024.
Richard P. Woychik,
Director, National Institute of Environmental Health Sciences and National Toxicology Program.

[FR Doc. 2024-14241 Filed 6-27-24; 8:45 am]

BILLING CODE 4140-01-P